DEPARTMENT OF ENERGY

Federal Energy Regulatory Commission

Combined Notice of Filings #1

Take notice that the Commission received the following electric corporate filings:

Docket Numbers: EC14-77-000.

Applicants: ESI Ebensburg, Inc., Ebensburg Power Company, Ebensburg Energy, LLC.

Description: Amendment to April 17, 2014 Application of ESI Ebensburg, Inc., et. al. for Approval under Section 203 of the Federal Power Act and Request for a Shortened Comment Period and Expedited Consideration.

Filed Date: 4/21/14.

Accession Number: 20140421-5233.

Comments Due: 5 p.m. ET 5/8/14.

Docket Numbers: EC14-79-000.

Applicants: ITC Midwest LLC.

Description: ITC Midwest LLC Application Pursuant to Section 203 of the Federal Power Act (IPL Battery Assets).

Filed Date: 4/21/14.

Accession Number: 20140421-5237.

Comments Due: 5 p.m. ET 5/12/14.

Docket Numbers: EC14-80-000.

Applicants: Energia Sierra Juarez U.S., LLC, INTERGEN N.V.

Description: Application for Authorization to Transfer Jurisdictional Facilities Pursuant to Section 203 of the Federal Power Act and Request for Expedited Treatment.

Filed Date: 4/22/14.

Accession Number: 20140422-5145.

Comments Due: 5 p.m. ET 5/13/14.

Take notice that the Commission received the following exempt wholesale generator filings:

Docket Numbers: EG14-44-000.

Applicants: Stephens Ranch Wind Energy, LLC.

Description: Notice of Self Certification of Exempt Wholesale Generator Status of Stephens Ranch Wind Energy, LLC.

Filed Date: 4/22/14.

Accession Number: 20140422-5150.

Comments Due: 5 p.m. ET 5/13/14.

Take notice that the Commission received the following electric rate filings:

Docket Numbers: ER10-1246-008; ER10-1982-009; ER10-1253-008; ER10-1252-008; ER13-764-007; ER12-2498-007; ER12-2499-007.

Applicants: Consolidated Edison Energy, Inc., Consolidated Edison Company of New York,, CONSOLIDATED EDISON SOLUTIONS INC, CED White River Solar, LLC, Orange and Rockland Utilities, Inc., Alpaugh 50, LLC, Alpaugh North, LLC.

Description: Notice of non-material change status of Consolidated Edison Energy, Inc., et. al.

Filed Date: 4/21/14.

Accession Number: 20140421-5261.

Comments Due: 5 p.m. ET 5/12/14.

Docket Numbers: ER10-2994-008; ER10-2822-004; ER10-3158-004; ER10-3159-003; ER10-1720-004; ER12-308-004; ER10-3162-004; ER10-3161-004.

Applicants: Iberdrola Renewables, LLC, Atlantic Renewable Projects II LLC, Dillon Wind LLC, Dry Lake Wind Power, LLC, Dry Lake Wind Power II LLC, Manzana Wind LLC, Mountain View Power Partners III, LLC, Shiloh I Wind Project, LLC.

Description: Supplement to June 28, 2013 Updated Market Power Analysis for the Southwest Region of Iberdrola Renewables, LLC, et. al.

Filed Date: 4/22/14.

Accession Number: 20140422-5177.

Comments Due: 5 p.m. ET 5/2/14.

Docket Numbers: ER13-2301-001.

Applicants: Dominion Energy Marketing, Inc.

Description: Amdmt to Pending Filing—Amndmt to Aug 30 2013 re: Category Seller Status to be effective 10/1/2013.

Filed Date: 4/21/14.

Accession Number: 20140421-5223.

Comments Due: 5 p.m. ET 5/12/14.

Docket Numbers: ER14-706-001.

Applicants: Midcontinent Independent System Operator, Inc.

Description: 2014-04-22_Schedule 3 Compliance Filing Amendment re: Order 784 to be effective 12/27/2013.

Filed Date: 4/22/14.

Accession Number: 20140422-5176.

Comments Due: 5 p.m. ET 5/13/14.

Docket Numbers: ER14-1751-000.

Applicants: C2K Energy, LLC.

Description: Application for Market Based Rate Authority to be effective 6/21/2014.

Filed Date: 4/22/14.

Accession Number: 20140422-5059.

Comments Due: 5 p.m. ET 5/13/14.

Docket Numbers: ER14-1752-000.

Applicants: Midcontinent Independent System Operator, Inc.

Description: 2014-04-22 1st Quarter Tariff Pricing Clean-Up Filing to be effective 4/23/2014.

Filed Date: 4/22/14.

Accession Number: 20140422-5155.

Comments Due: 5 p.m. ET 5/13/14.

Docket Numbers: ER14-1753-000.

Applicants: Pacific Gas and Electric Company.

Description: Notice of Termination of Hercules Municipal Utility IA and WDT SAs to be effective 4/10/2014.

Filed Date: 4/22/14.

Accession Number: 20140422-5202.

Comments Due: 5 p.m. ET 5/13/14.

Take notice that the Commission received the following land acquisition reports:

Docket Numbers: LA14-1-000.

Applicants: Virginia Electric and Power Company, Dominion Energy Marketing, Inc., Dominion Nuclear Connecticut, Inc., Dominion Energy Kewaunee, Inc., Dominion Energy Manchester Street, Inc., Dominion Retail, Inc., Fairless Energy, LLC, NedPower Mount Storm, LLC, Fowler Ridge Wind Farm LLC, Dominion Bridgeport Fuel Cell, LLC.

Description: Quarterly Land Acquisition Report of Virginia Electric and Power Company, et al. under LA14-1.

Filed Date: 4/22/14.

Accession Number: 20140422-5035.

Comments Due: 5 p.m. ET 5/13/14.

Take notice that the Commission received the following public utility holding company filings:

Docket Numbers: PH14-9-000.

Applicants: Bloom Energy Companies.

Description: Bloom Energy Companies submits FERC 65-B Waiver Notification of Bloom Energy Corporation.

Filed Date: 4/22/14.

Accession Number: 20140422-5074.

Comments Due: 5 p.m. ET 5/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-09738 Filed 4-28-14; 8:45 am]

BILLING CODE 6717-01-P